DEPARTMENT OF JUSTICE

[OMB Number 1121-0170]

Agency Information Collection Activities; Proposed Collection; Comments Requested: Crime Victim Compensation State Certification Form Request

ACTION: 30-Day Notice of Information Collection Under Review.

The Department of Justice (DOJ), Office of Justice Programs (OJP), Office for Victims of Crime (OVC) will be submitting the following information collection request to the Office of Management and Budget (OMB) for review and approval in accordance with the Paperwork Reduction Act of 1995. The proposed information collection is published to obtain comments from the public and affected agencies. This proposed information collection was previously published in the Federal Register Volume 76, Number 345, page 79219, on December 21, 2011, allowing for a 60 day comment period.

The purpose of this notice is to allow for an additional 30 days for public comment until March 29, 2012. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used:

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of information collection: Reinstatement, without change, of a previously approved collection of which approval has expired.

(2) Title of the form/collection: Crime Victim Compensation State Certification Form.

(3) Agency form number, if any, and the applicable component of the Department of Justice sponsoring the collection: The agency form number is 7390/5 and U.S. Department of Justice, Office of Justice Programs, Office for Victims of Crime.

(4) Affected public who will be asked or required to respond, as well as a brief abstract: Primary: State government VOCA administrators.

(5) An estimate of the total number of respondents and the amount of time estimated for an average respondent to respond: It is estimated that 53 respondents will complete the form within approximately 1 hour.

(6) An estimate of the total public burden (in hours) associated with the collection: There are an estimated 53 total hour burden hours associated with this collection.

If additional information is required contact: Jerri Murray, Clearance Officer, United States Department of Justice, Justice Management Division, Policy and Planning Staff, Two Constitution Square, 145 N Street NE., Room 2E-508, Washington, DC 20530.

Jerri Murray,
Department Clearance Officer, PRA, U.S. Department of Justice.

[FR Doc. 2012-4622 Filed 2-27-12; 8:45 am]

BILLING CODE 4410-18-P